DEPARTMENT OF COMMERCE

International Trade Administration

[A-583-827]

Static Random Access Memory Semiconductors From Taiwan; Preliminary Results and Partial Recission of Antidumping Duty Administrative Review

AGENCY: Import Administration, International Trade Administration, Department of Commerce.

SUMMARY: In response to requests by various interested parties, the Department of Commerce is conducting an administrative review of the antidumping duty order on static random access memory semiconductors from Taiwan. This review covers the U.S. sales and/or entries of three manufacturers/exporters. In addition, we are rescinding this review with respect to two companies. The period of review is October 1, 1997, through March 31, 1999, for two of these companies and October 1, 1998, through March 31, 1999, for the remaining company.

We have preliminarily determined that sales have been made below the normal value by each of the companies subject to this review. If these preliminary results are adopted in the final results of this administrative review, we will instruct the Customs Service to assess antidumping duties on all appropriate entries.

We invite interested parties to comment on these preliminary results. Parties who wish to submit comments in this proceeding are requested to submit with each argument: (1) A statement of the issue; and (2) a brief summary of the argument.

EFFECTIVE DATE: May 8, 2000.

FOR FURTHER INFORMATION CONTACT: Shawn Thompson or Irina Itkin, Office of AD/CVD Enforcement, Office 2, Import Administration, International Trade Administration, U.S. Department of Commerce, 14th Street and Constitution Avenue, NW, Washington, DC 20230; telephone (202) 482-1776 or (202) 482-0656, respectively.

Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department's regulations are to 19 CFR part 351 (1999).

SUPPLEMENTARY INFORMATION:

Background

On April 15, 1999, the Department of Commerce (the Department) published in the Federal Register a notice of “Opportunity to Request an Administrative Review” of the antidumping duty order on static random access memory semiconductors (SRAMs) from Taiwan (64 FR 18600).

In accordance with 19 CFR 351.213(b)(2), in April 1999, the following five producers/exporters of SRAMs requested an administrative review of the antidumping duty order on SRAMs from Taiwan: Alliance Semiconductor (Alliance), Galvantech, Inc. (Galvantech), G-Link Technology Inc. (G-Link), GSI Technology, Inc. (GSI Technology), and Winbond Electronics Corporation (Winbond). In addition, one company which purchased, exported, and re-imported subject merchandise, White Electronic Designs (White Electronics), also requested an administrative review with respect to merchandise produced by G-Link. Because we determined that the merchandise subject to the antidumping duty order was the merchandise originally imported by G-Link (rather than re-imported by White Electronics), we did not initiate an administrative review for G-Link based on White Electronics' request. In addition, based on the facts associated with White Electronics' purchase, exportation, and re-importation, we determined that, upon re-importation, the merchandise at issue is not subject to cash deposits of antidumping duties. For further discussion of our treatment of re-imported merchandise, see the memorandum entitled “Antidumping Duty Administrative Review on Static Random Access Memory Semiconductors (SRAMs) from Taiwan—Request by Electronic Designs, Inc. (EDI) for Clarification on Whether EDI is Liable for Antidumping Duties on the Second Importation of Certain SRAMs” from the Team to Louis Apple, Director, Office 5, Office of AD/CVD Enforcement, dated June 21, 1999.

On May 19, 1999, the Department issued questionnaires to Alliance, Galvantech, G-Link, GSI Technology, and Winbond. The Department initiated an administrative review for each of these companies on May 20, 1999 (64 FR 28973 (May 28, 1999)).

In June and July 1999, respectively, Alliance and Galvantech withdrew their requests for an administrative review. For further discussion, see the “Partial Rescission of Review” section of this notice, below.

Also in July 1999, we received a response to sections A through D of the questionnaire (i.e., the sections relating to general information, foreign market sales, U.S. sales, and cost of production (COP)/constructed value (CV), respectively) from Winbond.

In August 1999, we received a response to sections A through C of the questionnaire from G-Link. On August 27, 1999, the petitioner alleged that G-Link was selling at prices below the COP in its home market. Based on an analysis of this allegation, the Department initiated an investigation to determine whether G-Link made home market sales during the period of review (POR) at prices below the COP within the meaning of section 773(b) of the Act. Consequently, we issued section D of the questionnaire to G-Link.

In October 1999, we received a response to sections A through D of the questionnaire from GSI Technology. In November 1999, the petitioner alleged that GSI Technology was selling at prices below the COP in its third-country market. Based on an analysis of this allegation, we initiated an investigation to determine whether GSI Technology made foreign market sales during the POR at prices below the COP within the meaning of section 773(b) of the Act. Because GSI Technology submitted a response to section D of the questionnaire in October, it was not necessary to request additional information from GSI Technology.

In November 1999, we received a Section D questionnaire response from G-Link. Also in November and December 1999, we issued supplemental questionnaires to each of the respondents. We received responses to these questionnaires in December 1999, January 2000, and February 2000.

In February, March, and April 2000, the Department conducted verification of the data submitted by the respondents, in accordance with section 782(i) of the Act and 19 CFR 351.307(b)(1)(iv).

Scope of the Review

The products covered by this review are synchronous, asynchronous, and specialty SRAMs from Taiwan, whether assembled or unassembled. Assembled SRAMs include all package types. Unassembled SRAMs include processed wafers or die, uncut die and cut die. Processed wafers produced in Taiwan, but packaged, or assembled into memory modules, in a third country, are included in the scope; processed wafers produced in a third country and assembled or packaged in Taiwan are not included in the scope. The scope of this review includes modules containing SRAMs. Such modules include single in-line processing modules, single in-line memory modules, dual in-line memory modules, memory cards, or other collections of SRAMs, whether unmounted or mounted on a circuit board. The scope of this review does not include SRAMs that are physically integrated with other components of a motherboard in such a manner as to constitute one inseparable amalgam (i.e., SRAMs soldered onto motherboards). The SRAMs within the scope of this review are currently classifiable under subheadings 8542.13.8037 through 8542.13.8049, 8473.30.10 through 8473.30.90, 8542.13.8005, and 8542.14.8004 of the Harmonized Tariff Schedule of the United States (HTSUS). Although the HTSUS subheadings are provided for convenience and customs purposes, the written description of the scope of this proceeding is dispositive.

Period of Review

The POR is October 1, 1997, through March 31, 1999, for G-Link and Winbond. Because GSI Technology was a respondent in the 1997-1998 new shipper review on SRAMs, the POR for our administrative review of its U.S. sales is October 1, 1998, through March 31, 1999.

Partial Rescission of Review

As noted above, in June and July 1999 respectively, Alliance and Galvantech withdrew their requests for administrative review. No other interested party requested a review of sales of merchandise produced or exported by either Alliance or Galvantech during the POR. Therefore, in accordance with 19 CFR 351.213(d)(1) and consistent with our practice, we are rescinding our review with respect to Alliance and Galvantech.

Normal Value Comparisons

To determine whether sales of SRAMs from Taiwan to the United States were made at less than normal value (NV), we compared the constructed export price (CEP) to the NV for G-Link, GSI Technology, and Winbond as specified in the “Constructed Export Price” and “Normal Value” sections of this notice, below.

When making comparisons in accordance with section 771(16) of the Act, we considered all products sold in the foreign market as described in the “Scope of the Review” section of this notice, above, that were in the ordinary course of trade. Where there were no sales of identical merchandise in the foreign market made in the ordinary course of trade to compare to U.S. sales, we compared U.S. sales to sales of the most similar foreign like product made in the ordinary course of trade or CV, as appropriate.

Regarding G-Link and GSI Technology, we were unable to make product comparisons for certain models because these respondents failed to report cost information for these models, including both difference-in-merchandise and CV data. Consequently, for purposes of the preliminary results, we based the margin for the sales of these products on facts available pursuant to section 776(a)(2)(B) of the Act. As facts available, we used the highest non-aberrant margin calculated for any U.S. transaction for each respondent, in accordance with our practice. See, e.g., Static Random Access Memory Semiconductors From Taiwan; Notice of Final Results of Antidumping Duty New Shipper Review, 65 FR 12214 (Mar. 8, 2000); Notice of Final Determination of Sales at Less Than Fair Value: Static Random Access Memory Semiconductors From Taiwan, 63 FR 8909, 8912 (Feb. 23, 1998) (SRAMs Final Determination); and Final Determination of Sales at Less Than Fair Value: Stainless Steel Sheet and Strip in Coils From Germany, 64 FR 30710, 30732 (June 8, 1999). In selecting a facts-available margin, we sought a margin that is sufficiently adverse so as to effectuate the statutory proposes of the adverse facts-available rule, which is to induce respondents to provide the Department with complete and accurate information in a timely manner. We also sought a margin that is indicative of the respondent's customary selling practices and is rationally related to the transactions to which the adverse facts available are being applied. To that end, we selected the highest margin on an individual sale which fell within the mainstream of G-Link's and GSI Technology's transactions (i.e., transactions that reflect sales of products that are representative of the broader range of models used to determine NV).

Level of Trade and CEP Offset

In accordance with section 773(a)(1)(B) of the Act, to the extent practicable, we determine NV based on sales in the comparison market at the same level of trade as CEP. The NV level of trade is that of the starting-price sales in the comparison market or, when NV is based on CV, that of the sales from which we derive selling, general and administrative expenses (SG&A) and profit. For CEP, the U.S. level of trade is the level of the constructed sale from the exporter to the importer.

To determine whether NV sales are at a different level of trade than CEP sales, we examine stages in the marketing process and selling functions along the chain of distribution between the producer and the unaffiliated customer. If the comparison-market sales are at a different level of trade and the difference affects price comparability, as manifested in a pattern of consistent price differences between the sales on which NV is based and comparison-market sales at the level of trade of the export transaction, we make a level-of-trade adjustment under section 773(a)(7)(A) of the Act. Finally, for CEP sales, if the NV level is more remote from the factory than the CEP level and there is no basis for determining whether the difference in the levels between NV and CEP affects price comparability, we adjust NV under section 773(a)(7)(B) of the Act (the CEP offset provision). See Notice of Final Determination of Sales at Less Than Fair Value: Certain Cut-to-Length Carbon Steel Plate from South Africa, 62 FR 61731 (Nov. 19, 1997).

Both GSI Technology and Winbond claimed that they made foreign market sales at two levels of trade (i.e., to original equipment manufacturers (OEMs) and distributors). G-Link claimed that it made home market sales at three levels of trade (i.e., to OEMs, distributors, and trading companies). We examined the selling activities at each reported marketing stage for each respondent and found that there was no substantive difference in the selling functions performed at any of these stages. Consequently, we determine that only one level of trade exists with respect to sales made by these companies to all foreign market customers.

In order to determine whether NV was established at a level of trade which constituted a more advanced stage of distribution than the level of trade of the CEP, we compared the selling functions performed for foreign market sales with those performed with respect to the CEP transaction, which excludes economic activities occurring in the United States, pursuant to section 772(d) of the Act. We found that G-Link performed essentially the same selling functions in its sales offices in Taiwan for home market and U.S. sales. Therefore, G-Link's home market sales were not at a more advanced stage of marketing and distribution than the constructed U.S. level of trade, which represents an F.O.B. foreign port price after the deduction of expenses associated with U.S. selling activities. Because we find that no difference in level of trade exits between markets, we have not granted a CEP offset to G-Link. For a detailed explanation of this analysis, see the memorandum entitled “Preliminary Results of Antidumping Duty Administrative Review on Static Random Access Memory Semiconductors from Taiwan,” dated May 1, 2000 (the “concurrence memorandum”).

In contrast, we found that GSI Technology and Winbond performed most of the selling functions and services related to U.S. sales at their sales offices in the United States. These selling functions are associated with those expenses which we deduct from the CEP starting price, as specified in section 772(d) of the Act. In addition, we found that GSI Technology generally performed the same selling functions for sales to its third-country customers at its office in the United States, while Winbond performed these functions for its home market sales in Taiwan. Therefore, we find that GSI Technology's and Winbond's sales in the foreign market were at a more advanced stage of marketing and distribution (i.e., more remote from the factory) than the constructed U.S. level of trade. However, because GSI Technology and Winbond sell at only one level of trade in the foreign market, the difference in the levels of trade cannot be quantified. Because the difference in the levels of trade cannot be quantified, but the foreign market is at a more advanced level of trade, we have granted a CEP offset to GSI Technology and Winbond. For further discussion, see the concurrence memorandum referenced above.

Constructed Export Price

In accordance with section 772(b) of the Act, we used CEP methodology because all sales took place after importation into the United States. We revised the reported data based on our findings at verification.

A. G-Link

We calculated CEP based on the starting price to the first unaffiliated purchaser in the United States. Where appropriate, we made deductions for foreign inland freight, foreign warehousing, foreign brokerage and handling expenses, international freight, marine insurance, U.S. warehousing, U.S. freight expenses (offset by freight revenue), U.S. merchandise processing fees, and U.S. brokerage and handling expenses, in accordance with section 772(c)(2)(A) of the Act.

We made additional deductions from CEP, where appropriate, for commissions, credit expenses and U.S. indirect selling expenses, including U.S. inventory carrying costs, in accordance with section 772(d)(1) of the Act.

Pursuant to section 772(d)(3) of the Act, we further reduced the starting price by an amount for profit to arrive at CEP. In accordance with section 772(f) of the Act, we calculated the CEP profit rate using the expenses incurred by G-Link and its affiliate on their sales of the subject merchandise in the United States and the foreign like product in the home market and the profit associated with those sales.

B. GSI Technology

We based CEP on the starting price to the first unaffiliated purchaser in the United States. Where appropriate, we made deductions from the starting price for discounts. We also made deductions for foreign inland freight, foreign warehousing, international freight, marine insurance, U.S. merchandise processing fees, U.S. inland freight, and U.S. warehousing expenses, in accordance with section 772(c)(2)(A) of the Act.

We made additional deductions from CEP, where appropriate, for credit expenses, commissions, and indirect selling expenses, including U.S. inventory carrying costs, in accordance with section 772(d) of the Act.

Pursuant to section 772(d)(3) of the Act, we further reduced the starting price by an amount for profit to arrive at CEP. In accordance with section 772(f) of the Act, we calculated the CEP profit rate using the expenses incurred by GSI Technology on its sales of the subject merchandise in the United States and the foreign like product in the third country and the profit associated with those sales.

C. Winbond

We calculated CEP based on the starting price to the first unaffiliated purchaser in the United States. In accordance with section 772(c)(1)(B) of the Act, we added an amount for uncollected import duties in Taiwan. Where appropriate, we made deductions for foreign inland freight, foreign warehousing, foreign brokerage and handling expenses, foreign inland insurance, international freight, marine insurance, U.S. merchandise processing fees, U.S. inland freight, and U.S. warehousing expenses, in accordance with section 772(c)(2)(A) of the Act.

We made additional deductions from CEP, where appropriate, for commissions, credit expenses, repacking expenses, and U.S. indirect selling expenses, including U.S. inventory carrying costs, in accordance with section 772(d)(1) of the Act.

Pursuant to section 772(d)(3) of the Act, we further reduced the starting price by an amount for profit to arrive at CEP. In accordance with section 772(f) of the Act, we calculated the CEP profit rate using the expenses incurred by Winbond and its affiliate on their sales of the subject merchandise in the United States and the foreign like product in the home market and the profit associated with those sales.

Normal Value

In order to determine whether there is a sufficient volume of sales in the foreign market to serve as a viable basis for calculating NV (i.e., the aggregate volume of home market sales of the foreign like product is greater than five percent of the aggregate volume of U.S. sales), we compared the volume of each respondent's home market sales of the foreign like product to the volume of U.S. sales of subject merchandise in accordance with section 773(a)(1)(C) of the Act. Based on this comparison, we determined that G-Link and Winbond had viable home markets during the POR, while GSI Technology did not. Consequently, we based NV on home market sales for G-Link and Winbond and on sales to Japan (i.e., the largest third-country market) for GSI Technology.

Pursuant to section 773(b)(2)(A)(ii) of the Act, there were reasonable grounds to believe or suspect that Winbond had made home market sales at prices below their COPs in this review because in the less-than-fair-value (LTFV) investigation, the Department disregarded below-cost sales that Winbond made in the home market. See SRAMs Final Determination, 63 FR 8909, 8913 (Feb. 23, 1998). As a result, the Department initiated an investigation to determine whether Winbond made home market sales during the POR at prices below their COPs.

In addition, in August and November 1999, respectively, the petitioner alleged that G-Link and GSI Technology were selling at prices below the COP in their foreign markets. Based on information submitted by the petitioner, the Department found reasonable grounds to believe or suspect that G-Link and GSI Technology made sales in the foreign markets at prices below the cost of producing the merchandise, in accordance with section 773(b)(1) of the Act. As a result, the Department initiated investigations to determine whether these respondents made foreign market sales during the POR at prices below their respective COPs within the meaning of section 773(b) of the Act. For further discussion, see the decision memoranda on this topic, dated August 27, 1999, for G-Link and December 6, 1999, for GSI Technology.

We calculated the COP based on the sum of each respondent's cost of materials and fabrication for the foreign like product in each quarter of the POR, plus amounts for SG&A and financing costs, in accordance with section 773(b)(3) of the Act.

We compared the weighted-average quarterly COP figures to home market or third country prices of the foreign like product, as appropriate, less any applicable movement charges and discounts, as required under section 773(b) of the Act, in order to determine whether these sales had been made at prices below their respective COPs. On a product-specific basis, we compared the COP to foreign market prices, less any applicable movement charges, discounts, rebates, and packing expenses.

In determining whether to disregard foreign market sales made at prices below the COP, we examined whether such sales were made: (1) In substantial quantities within an extended period of time; and (2) at prices which permitted the recovery of all costs within a reasonable period of time in the normal course of trade. See section 773(b)(1) of the Act.

Pursuant to section 773(b)(2)(C)(i) of the Act, where less than 20 percent of a respondent's sales of a given product were at prices below the COP, we did not disregard any below-cost sales of that product because we determined that the below-cost sales were not made in “substantial quantities.”

Where 20 percent or more of a respondent's sales of a given product were at prices below the COP, we found that sales of that model were made in “substantial quantities” within an extended period of time, in accordance with section 773(b)(2)(B) and (C) of the Act. To determine whether prices provided for recovery of costs within a reasonable period of time, we tested whether the prices which were below the per-unit cost of production at the time of the sale were also below the weighted-average per-unit cost of production for the POR, in accordance with section 773(b)(2)(D). If they were, we disregarded the below-cost sales in determining NV.

We found that, for certain models of SRAMs, more than 20 percent of each respondent's foreign market sales within an extended period of time were at prices below the COP. Further, the prices did not provide for the recovery of costs within a reasonable period of time. We therefore disregarded the below-cost sales and used the remaining sales as the basis for determining NV, in accordance with section 773(b)(1) of the Act. For those U.S. sales of SRAMs for which there were no comparable foreign market sales in the ordinary course of trade, we compared CEP to CV, in accordance with section 773(a)(4) of the Act.

In accordance with section 773(e) of the Act, we calculated CV based on the sum of each respondent's cost of materials, fabrication, SG&A, financing expenses, profit, and U.S. packing costs. In accordance with section 773(e)(2)(A) of the Act, we based SG&A, financing expenses, and profit on the amounts incurred and realized by each respondent in connection with the production and sale of the foreign like product in the ordinary course of trade for consumption in the foreign country.

We revised the sales data for each of the respondents, as well as the cost data provided by GSI Technology, based on our findings at verification. Because verification of the cost data submitted by G-Link and Winbond was conducted in April 2000, we were unable to incorporate our verification findings with respect to this data in the calculations performed for purposes of these preliminary results. We will, however, consider any verification findings for purposes of the final results. Company-specific calculations are discussed below.

A. G-Link

Where NV was based on home market sales, we based NV on the starting price to unaffiliated customers. We made deductions from the starting price for foreign inland freight, foreign warehousing, and foreign inland insurance, where appropriate, pursuant to section 773(a)(6)(B) of the Act. Pursuant to section 773(a)(6)(C)(iii) of the Act, we also made deductions for home market credit expenses.

Where applicable, in accordance with 19 CFR 351.410(e), we offset any commission paid on a U.S. sale by reducing the NV by home market indirect selling expenses, up to the amount of the U.S. commission.

For all price-to-price comparisons, we deducted home market packing costs and added U.S. packing costs, in accordance with section 773(a)(6) of the Act. Where appropriate, we made adjustments to NV to account for differences in physical characteristics of the merchandise, in accordance with section 773(a)(6)(C)(ii) of the Act and 19 CFR 351.411.

Where NV was based on CV, we deducted from CV the weighted-average foreign market direct selling expenses, in accordance with sections 773(a)(6)(C)(iii) and 773(a)(8). Where applicable, we offset any commission paid on a U.S. sale by reducing the NV by the amount of home market indirect selling expenses, up to the amount of the U.S. commission.

B. GSI Technology

Where NV was based on third-country sales, we based NV on the starting price to unaffiliated customers. We made deductions from the starting price for discounts. We also made deductions, where appropriate, for foreign inland freight, foreign warehousing, international freight, marine insurance, U.S. merchandise processing fees, U.S. inland freight to the warehouse, and U.S. warehousing expenses, pursuant to section 773(a)(6)(B) of the Act. Pursuant to section 773(a)(6)(C)(iii) of the Act, we also made deductions for third-country credit expenses and commissions.

We deducted third-country indirect selling expenses, including inventory carrying costs and other indirect selling expenses, up to the amount of indirect selling expenses incurred on U.S. sales, in accordance with section 773(a)(7)(B) of the Act. Where applicable, in accordance with 19 CFR 351.410(e), we offset any commission paid on a U.S. sale by reducing the NV by any third-country indirect selling expenses remaining after the deduction for the CEP offset, up to the amount of the U.S. commission.

Where appropriate, we made adjustments to NV to account for differences in physical characteristics of the merchandise, in accordance with section 773(a)(6)(C)(ii) of the Act and 19 CFR 351.411.

Where NV was based on CV, we deducted from CV the weighted-average foreign market direct selling expenses and commissions, in accordance with sections 773(a)(6)(C)(iii) and 773(a)(8). In accordance with section 773(a)(7)(B) of the Act, we granted a CEP offset adjustment, calculated as noted above. Where applicable, we offset any commission paid on a U.S. sale by reducing the NV by any third-country selling expenses remaining after the deduction of the CEP offset, up to the amount of the U.S. commission.

Winbond

In its questionnaire response, Winbond stated that it made all sales in the home market to unaffiliated parties. However, one of Winbond's customers was classified as an affiliate for purposes of the company's audited financial statements, based on the fact that the President of Winbond was a managing director of the customer in question. Consequently, we have treated this customer as an affiliated party, as defined by section 771(33)(F) of the Act, for purposes of the preliminary results.

We tested the affiliated-party sales in question to ensure that they were made at “arm's-length” prices, in accordance with our practice. (See Notice of Final Determination of Sales at Less Than Fair Value: Certain Cold-Rolled Carbon Steel Flat Products from Argentina, 58 FR 37062, 37077 (Appendix II) (July 9, 1993).) To conduct this test, we compared the prices of sales to affiliated and unaffiliated customers net of all movement charges, discounts, rebates, direct selling expenses, and packing costs, where appropriate. Based on the results of that test, we disregarded sales by Winbond to its affiliated party because they were not made at “arm's-length” prices, in accordance with 19 CFR 351.403(c).

Where NV was based on home market sales, we based NV on the starting price to unaffiliated customers. We made deductions from the starting price for foreign inland freight and foreign inland insurance, pursuant to section 773(a)(6)(B) of the Act. Pursuant to section 773(a)(6)(C)(iii) of the Act, we also made deductions for home market credit expenses, trade development fees, and commissions.

We deducted home market indirect selling expenses, including inventory carrying costs and other indirect selling expenses, up to the amount of indirect selling expenses incurred on U.S. sales, in accordance with section 773(a)(7)(B) of the Act. Where applicable, in accordance with 19 CFR 351.410(e), we offset any commission paid on a U.S. sale by reducing the NV by any home market selling expenses remaining after the deduction for the CEP offset, up to the amount of the U.S. commission.

In addition, we deducted home market packing costs and added U.S. packing costs, in accordance with section 773(a)(6) of the Act. Where appropriate, we made adjustments to NV to account for differences in physical characteristics of the merchandise, in accordance with section 773(a)(6)(C)(ii) of the Act and 19 CFR 351.411.

Where NV was based on CV, we deducted from CV the weighted-average foreign market direct selling expenses and commissions, in accordance with sections 773(a)(6)(C)(iii) and 773(a)(8). In accordance with section 773(a)(7)(B) of the Act, we granted a CEP offset adjustment, calculated as explained above. Where applicable, we offset any commission paid on a U.S. sale by reducing the NV by any home market indirect selling expenses remaining after the deduction for the CEP offset, up to the amount of the U.S. commission.

Currency Conversion

We made currency conversions into U.S. dollars based on the exchange rates in effect on the dates of the U.S. sales as certified by the Federal Reserve Bank.

Section 773A of the Act directs the Department to use a daily exchange rate in order to convert foreign currencies into U.S. dollars unless the daily rate involves a fluctuation. It is the Department's practice to find that a fluctuation exists when the daily exchange rate differs from the benchmark rate by 2.25 percent. The benchmark is defined as the moving average of rates for the past 40 business days. When we determine a fluctuation to have existed, we substitute the benchmark for the daily rate, in accordance with established practice.

Preliminary Results of Review

As a result of our review, we preliminarily determine that the following margins exist for the period October 1, 1997, through March 31, 1999 (for G-Link and Winbond) and the period October 1, 1998, through March 31, 1999 (for GSI Technology):

Manufacturer/exporter | Percent margin
G-Link Technology | 21.74
GSI Technology, Inc. | 33.85
Winbond Electronics Corp. | 0.60

The Department will disclose to parties the calculations performed in connection with these preliminary results within five days of the date of publication of this notice. Interested parties may request a hearing within 30 days of the publication. Any hearing, if requested, will be held two days after the date rebuttal briefs are filed. Interested parties may submit case briefs not later than 30 days after the date of publication of this notice. Rebuttal briefs, limited to issues raised in the case briefs, may be filed not later than 35 days after the date of publication of this notice. The Department will publish a notice of the final results of this administrative review, which will include the results of its analysis of issues raised in any such case briefs, within 120 days of the publication of these preliminary results.

Upon completion of this administrative review, the Department shall determine, and the Customs Service shall assess, antidumping duties on all appropriate entries. We have calculated importer-specific assessment rates based on the ratio of the total amount of antidumping duties calculated for the examined sales to the total entered value of each importer's sales during the POR. These rates will be assessed uniformly on all entries of particular importers made during the POR. Pursuant to 19 CFR 351.106(c)(2), we will instruct the Customs Service to liquidate without regard to antidumping duties all entries for any importer for whom the assessment rate is de minimis (i.e., less than 0.50 percent). The Department will issue appraisement instructions directly to the Customs Service.

Further, the following deposit requirements will be effective for all shipments of SRAMs from Taiwan entered, or withdrawn from warehouse, for consumption on or after the publication date of the final results of this administrative review, as provided for by section 751(a)(1) of the Act: (1) The cash deposit rates for G-Link, GSI Technology, and Winbond will be the rates established in the final results of this review, except if the rate is less than 0.50 percent and, therefore, de minimis within the meaning of 19 CFR 351.106, the cash deposit will be zero; (2) for previously reviewed or investigated companies not listed above, the cash deposit rate will continue to be the company-specific rate published for the most recent period; (3) if the exporter is not a firm covered in this review, a prior review, or the LTFV investigation, but the manufacturer is, the cash deposit rate will be the rate established for the most recent period for the manufacturer of the merchandise; and (4) the cash deposit rate for all other manufacturers or exporters will continue to be 41.75 percent, the all others rate established in the LTFV investigation.

These deposit requirements, when imposed, shall remain in effect until publication of the final results of the next administrative review.

This notice serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing this determination in accordance with sections 751(i)(1) and 777(i)(1) of the Act.

Dated: May 1, 2000.
Troy H. Cribb,
Acting Assistant Secretary for Import Administration.

[FR Doc. 00-11465 Filed 5-5-00; 8:45 am]

BILLING CODE 3510-DS-P